DEPARTMENT OF ENERGY

Federal Energy Regulatory Commission

[Docket No. AD15-4-000]

Technical Conference on Environmental Regulations and Electric Reliability, Wholesale Electricity Markets, and Energy Infrastructure; Supplemental Notice of Technical Conferences

As announced in the Notices issued on December 9, 2014 ¹ and January 6, 2015,² the Federal Energy Regulatory Commission (Commission) will hold a series of technical conferences to discuss implications of compliance approaches to the Clean Power Plan proposed rule, issued by the Environmental Protection Agency (EPA) on June 2, 2014.³ The technical conferences will focus on issues related to electric reliability, wholesale electric markets and operations, and energy infrastructure. The Commission will hold a National Overview technical conference on February 19, 2015, from approximately 10:00 a.m. to 5:45 p.m. in the Commission Meeting Room at the Federal Energy Regulatory Commission, 888 First Street NE., Washington, DC 20426. This conference is free of charge and open to the public. The agenda and list of speakers for the National Overview technical conference is attached to this Supplemental Notice of Technical Conferences.

¹ Technical Conference on Environmental Regulations and Electric Reliability, Wholesale Electricity Markets, and Energy Infrastructure, Docket No. AD15-4-000, (Dec. 9, 2014) (Notice of Technical Conferences), available at http://www.ferc.gov/CalendarFiles/20141209165657-AD15-4-000TC.pdf.

² Technical Conference on Environmental Regulations and Electric Reliability, Wholesale Electricity Markets, and Energy Infrastructure, Docket No. AD15-4-000, (Jan. 6, 2014) (Supplemental Notice of Technical Conferences), available at http://www.ferc.gov/CalendarFiles/20150106170115-AD15-4-000TC1.pdf.

³ Carbon Pollution Emission Guidelines for Existing Stationary Sources: Electric Utility Generating Units, 79 FR 34,830 (2014) (Proposed Rule), available at http://www.gpo.gov/fdsys/pkg/FR-2014-06-18/pdf/2014-13725.pdf.

If you have not already done so, registration for the National Overview technical conference is available at https://www.ferc.gov/whats-new/registration/02-19-15-form.asp. Those interested in attending the National Overview conference are encouraged to register by close of business on February 13, 2015. The Commission will provide details on registration for the regional technical conferences in subsequent notices.

The Commission will post information on the technical conferences on the Calendar of Events on the Commission's Web site, http://www.ferc.gov, prior to the conferences. The National Overview technical conference will also be webcast and transcribed. The webcast of the National Overview technical conference will be available through a link on the Commission's Calendar of Events available at http://www.ferc.gov. The event within the Calendar of Events will contain a link to the webcast. The Capitol Connection provides technical support for webcasts and offers the option of listening to the meeting via phone-bridge for a fee. If you have any questions, visit http://www.CapitolConnection.org or call (703) 993-3100. Transcripts of the technical conference will be available for a fee from Ace-Federal Reporters, Inc. ((202) 347-3700 or (800) 336-6646).

Commission conferences are accessible under section 508 of the Rehabilitation Act of 1973. For accessibility accommodations, please send an email to accessibility@ferc.gov or call toll free (866) 208-3372 (voice) or (202) 502-8659 (TTY), or send a Fax to (202) 208-2106 with the required accommodations.

For more information about the technical conferences, please contact:

Logistical Information, Sarah McKinley, Federal Energy Regulatory Commission, 888 First Street NE., Washington, DC 20426, (202) 502-8368, sarah.mckinley@ferc.gov.

Legal Information, Alan Rukin, Federal Energy Regulatory Commission, 888 First Street NE., Washington, DC 20426, (202) 502-8502, alan.rukin@ferc.gov.

Technical Information, Matthew Jentgen, Federal Energy Regulatory Commission, 888 First Street NE., Washington, DC 20426, (202) 502-8725, matthew.jentgen@ferc.gov.

Technical Information, Michael Gildea, Federal Energy Regulatory Commission, 888 First Street NE., Washington, DC 20426, (202) 502-8420, michael.gildea@ferc.gov.

Dated: February 2, 2015.
Kimberly D. Bose,
Secretary.

[FR Doc. 2015-02431 Filed 2-6-15; 8:45 am]

BILLING CODE 6717-01-P